DEPARTMENT OF JUSTICE

Federal Bureau of Investigation

[Docket No. FBI]

FBI Criminal Justice Information Services Division User Fee Schedule

AGENCY: Federal Bureau of Investigation (FBI), Justice.

ACTION: Notice.

SUMMARY: Pursuant to Title 28, Code of Federal Regulations (CFR), 20.31(e)(3), this notice establishes revised rates for the user fee schedule for authorized users requesting fingerprint-based and name-based Criminal History Record Information (CHRI) checks for noncriminal justice purposes.

DATES: This fee is effective February 1, 2015.

FOR FURTHER INFORMATION CONTACT: Ms. Robin A. Stark, Section Chief, Resources Management Section, Criminal Justice Information Services (CJIS) Division, FBI, 1000 Custer Hollow Road, Module E-3, Clarksburg, WV 26306. Telephone number (304) 625-2910.

SUPPLEMENTARY INFORMATION: Pursuant to the authority in Public Law 101-515, as amended, the FBI has established user fees for authorized agencies requesting noncriminal fingerprint-based and name-based CHRI checks at 28 CFR 20.31(e). The FBI will periodically review the process of fingerprint-based CHRI checks to determine the proper fee amounts that should be collected, and the FBI will publish any resulting fee adjustments in the Federal Register.

In accordance with 28 CFR 20.31(e)(2), the fee study employed the same methodology as detailed in the Final Rule (FR) establishing the process for setting fees (75 FR 18751, April 13, 2010).

The fee study results recommended several adjustments to the current user fees, which have been in effect since March 19, 2012. The FBI independently reviewed the recommendations, compared them to current fee calculations and plans for future service, and determined that the revised fees were both objectively reasonable and consistent with the underlying legal authorities. Pursuant to the recommendations of the study, the fees for fingerprint-based CHRI checks will be decreased with no change in the fee for name-based CHRI checks for federal agencies specifically authorized by statute, e.g., pursuant to the Security Clearance Information Act, Title 5, United States Code (U.S.C.), 9101. As a general policy, as of April 15, 2012, the FBI ceased processing hard copy fingerprint cards, thus eliminating the need for the manual fee classes. As such, the manual fee classes are hereby removed from the rate schedule. Notice of this change was provided to the user community through a June 14, 2011, letter and a January 3, 2012, CJIS Information Letter.

The following tables detail the proposed fee amounts for authorized users requesting fingerprint-based and name-based CHRI checks for noncriminal justice purposes, including the difference, if any, from the fee schedule currently in effect.

Fingerprint-Based CHRI Checks
Service | Fee currently in effect | Fee currently in effect for CBSPs ¹ | Change in fee amount | Revised fee | Revised fee for CBSPs
Fingerprint-based Submission | $16.50 | $14.50 | ($1.75) | $14.75 | $12.75
Fingerprint-based Volunteer Submission (see 75 FR 18752) | 15.00 | 13.00 | (1.50) | 13.50 | 11.50
Electronic In/Manual Out Submission | 23.25 | 21.25 | (²) | n/a | n/a
Manual Submission | 27.50 | 25.50 | (²) | n/a | n/a
¹ Centralized Billing Service Providers, see 75 FR 18753.
² Elimination of Fee Class.

Name-Based CHRI Checks
Service | Fee currently in effect | Change in fee amount | Revised fee
Name-based Submission | $2.25 | $0 | $2.25
Manual Submission | 6.00 | (¹) | n/a
¹ Elimination of Fee Class.

Dated: October 22, 2014.
James B. Comey,
Director.

[FR Doc. 2014-25524 Filed 10-24-14; 8:45 am]

BILLING CODE 4410-02-P